ENVIRONMENTAL PROTECTION AGENCY

[EPA-HQ-OPP-2021-0132; FRL-10025-30]

Product Cancellation Order for Certain Pesticide Registrations; Correction

AGENCY: Environmental Protection Agency (EPA).

ACTION: Notice.

SUMMARY: EPA issued a notice in the Federal Register of June 8, 2021, concerning cryolite product cancellations voluntarily requested by the registrants and accepted by the Agency. This notice is being issued to correct Table 1 of the cancellation order by removing five entries that indicated an incorrect cancellation date and correcting the cancellation date and the corresponding existing stocks provision date in Units IV and VI for the affected products.

FOR FURTHER INFORMATION CONTACT: Alexander Hazlehurst, Pesticide Reevaluation Division (7508P), Office of Pesticide Programs, Environmental Protection Agency, 1200 Pennsylvania Ave. NW, Washington, DC 20460-0001; telephone number: (703) 347-0221 email address: Hazlehurst.alexander@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2021-0132, is available at http://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (703) 305-5805. Due to the public health concerns related to COVID-19, the EPA Docket Center (EPA/DC) and Reading Room is closed to visitors with limited exceptions. The staff continues to provide remote customer service via email, phone, and webform. For the latest status information on EPA/DC services and docket access, visit https://www.epa.gov/dockets.

II. What does this correction do?

This notice is being issued to correct Table 1 in Unit II and the corresponding existing stocks and provisions dates in Units IV and VI of the cancellation notice that published in the Federal Register on June 8, 2021 (86 FR 30460) (FRL-10024). As such, FR Doc. 2021-11919 that published in the Federal Register on June 8, 2021 (86 FR 30460) (FRL-10024-48) is corrected as follows:

1. On page 30460, in Table 1, remove the complete entries for “10163-41, 10163-225, 10163-242, 10163-243, and FL000011.”

2. Insert the following table below Table 1.

Table 1A—Product Cancellations
EPA Registration No. | Product name | Active ingredients
10163-41 | Prokil Cryolite 96 | Cryolite.
10163-225 | Gowan Cryolite Bait | Cryolite.
10163-242 | Prokil Cryolite 75-Dust | Cryolite.
10163-243 | Prokil Cryolite 50-Dust | Cryolite.
FL000011 | Prokil Cryolite 96 | Cryolite.

3. On page 30461, in Unit IV., insert “The effective date of the cancellations that are the subject of this notice for the product registrations identified in Table 1A of Unit II., will be September 30, 2022.”

4. On page 30461, in Unit VI., insert “The registrant may continue to sell and distribute existing stocks of the cryolite products listed in Table 1A of Unit II. until March 31, 2024, which is 18 months after the effective date of the cancellations.”

Prior to the issuance of the cancellation order, the registrant of the five cryolite product registrations in Table 1A, requested the cancellations to be effective on September 30, 2022. The Agency intended to accept this effective cancellation date, but inadvertently neglected to separate out these products with the correct effective date in the prior cancellation order. In addition, as requested, the registrant may continue to sell and distribute existing stocks of the cryolite products listed in Table 1A of Unit II. until March 31, 2024, which is 18 months after the effective date of the cancellations. Persons other than the registrants may sell, distribute, or use existing stocks of products listed in Table 1A of Unit II. until exhausted, provided that such sale, distribution, or use is consistent with the terms of the previously approved labeling on, or that accompanied, the canceled products.

Authority: 7 U.S.C. 136 et seq.

Dated: June 16, 2021.
Mary Reaves,
Director, Pesticide Re-Evaluation Division, Office of Pesticide Programs.

[FR Doc. 2021-13175 Filed 6-22-21; 8:45 am]

BILLING CODE 6560-50-P